DEPARTMENT OF HOMELAND SECURITY

[Docket No. DHS-2009-0133]

Homeland Security Information Network Advisory Committee

ACTION: Committee Management; Notice of Federal Advisory Committee Meeting.

SUMMARY: The Homeland Security Information Network Advisory Committee (HSINAC) will meet from October 19, 2009 to October 21, 2009, in Potomac, MD. This meeting is open to the public during the times listed in this notice.

DATES: The HSINAC will meet Monday, October 19, 2009, from 2 p.m. to 6 p.m., Tuesday, October 21, 2009 from 8:30 a.m. to 6 p.m. and on Thursday, October 22, 2009, from 9 a.m. to 12 p.m. Please note that the meeting might close early if the committee has completed its business.

ADDRESSES: The meeting convenes at the Bolger Center, 9600 Newbridge Drive, Potomac, MD 20854-4436. All visitors to Bolger Center must pre-register to gain admittance to the building. To register, please contact Gabrielle Gallegos by close of business on October 16, 2009 at (202-357-7624) (202-357-7680 TTY) or HSINAC@DHS.Gov. Seating may be limited and is available on a first-come, first-served basis. Participation in HSINAC deliberations is limited to committee members and Department of Homeland Security officials.

Send written material, comments, questions, and requests to make oral presentations to Gabrielle Gallegos, Department of Homeland Security, by electronic mail to HSINAC@DHS.Gov or by fax to 202-282-8191. Include the docket number, DHS-2009-0133 in the subject line of the message. Regular mail may be sent to Gabrielle Gallegos, Department of Homeland Security, 245 Murray Lane, SW., BLDG 410, Washington, DC 20528-0426.

Instructions: All submissions received must include the words “Department of Homeland Security” and DHS-2009-0133, the docket number for this action. Comments received will be posted without alteration at http://www.regulations.gov, including any personal information provided.

Docket: For access to the docket to read background documents or comments received by the Homeland Security Information Network Advisory Committee, go to http://www.regulations.gov.

FOR FURTHER INFORMATION CONTACT: Gabrielle Gallegos, 245 Murray Lane, SW., BLDG 410, Washington, DC 20528-0426, HSINAC@DHS.Gov, 202-357-7624, fax 202-282-8191.

SUPPLEMENTARY INFORMATION: Notice of this meeting is delivered in accordance with the Federal Advisory Committee Act, 5 U.S.C. App. (Pub. L. 92-463). The purpose of the Homeland Security Information Network Advisory Committee is to identify issues and provide independent advice and recommendations for the improvement of the Homeland Security Information Network (HSIN) to senior leadership of the Department, in particular the Director of Operations Coordination and Planning. The meeting agenda will include discussion about the following topics: Demonstration of the system update, capabilities release timelines and milestones, change control board, future requirements, policy, committee reports, security and controlled unclassified information.

Pursuant to 41 CFR 102-3.150(b), this notice was published late as a result of exceptional circumstances. An administrative processing error prevented earlier publication, and the Department determined that it would be impracticable to reschedule the substantive activity scheduled for this meeting. In order to allow the greatest possible public participation, the Department has extended the usual deadlines to register public participants for the conference and to receive public comments. As noted above, that date is October 16, 2009.

Information on Services for Individuals With Disabilities and Language Requirements

For information on facilities or services for individuals with disabilities or to request special assistance at the meeting, contact Gabrielle Gallegos as soon as possible. The Federal Relay Service (FedRelay), a Federal Government telecommunications service, enables those who are deaf, hard-of-hearing, deaf/blind, or have speech disabilities equal communication access.

All calls are strictly confidential and no records of conversations are maintained. Toll-Free and Toll Access Numbers for Federal Relay are:

800-877-8339 TTY (Text Telephone)/ASCII (American Standard Code For Information Interchange);

877-877-6280 VCO (Voice Carry Over);

877-877-8982 Speech-to-Speech;

800-845-6136 Spanish;

800-877-0996 Customer Service (Voice/TTY, ASCII and Spanish);

866-377-8642 Voice;

866-893-8340 TeleBraille.

From non-domestic locations the number is 605-331-4923.

Dated: October 6, 2009.
Mary Kruger,
Chief of Staff, Department of Homeland Security, Office of Operations Coordination and Planning.

[FR Doc. E9-24441 Filed 10-8-09; 8:45 am]

BILLING CODE 9110-9A-P